DEPARTMENT OF HOMELAND SECURITY

Coast Guard

33 CFR Part 165

[Docket Number USCG-2022-0082]

RIN 1625-AA87

Security Zone; Naval Submarine Base New London, Groton, CT

AGENCY: Coast Guard, DHS.

ACTION: Final rule.

SUMMARY: The Coast Guard is modifying the security zone boundaries surrounding Naval Submarine Base New London in Groton, CT. This rule will amend the previous security zone to encompass the entire operational area of the Naval Submarine Base.

DATES: This rule is effective September 2, 2022.

ADDRESSES: To view documents mentioned in this preamble as being available in the docket, go to https://www.regulations.gov, type USCG-2022-0082 in the search box and click “Search.” Next, in the Document Type column, select “Supporting & Related Material.”

FOR FURTHER INFORMATION CONTACT: If you have questions on this rule, call or email If you have questions about this proposed rulemaking, call or email MST2 Mark Paget, Waterways Management Division, Sector Long Island Sound; telephone: (203) 468-4583; email: Mark.A.Paget@uscg.mil.

SUPPLEMENTARY INFORMATION:

I. Table of Abbreviations

CFR Code of Federal Regulations

COTP Captain of the Port Long Island Sound

DHS Department of Homeland Security

FR Federal Register

NOAA National Oceanic and Atmospheric Administration

NPRM Notice of proposed rulemaking

§ Section

U.S.C. United States Code

II. Background Information and Regulatory History

The Naval Submarine Base New London, Groton, CT, is the home to a portion of the U.S. Navy's Fast Attack Nuclear Submarines. During a recent security assessment of the base, it was determined that the existing security zone does not adequately cover the entirety of naval assets, piers, or planned pier extension projects. Therefore, Naval Submarine Base New London requested to expand the existing security zone to safeguard its waterfront facility and its naval vessels while moored to prevent destruction, loss, or injury from sabotage or other subversive acts, or other causes of a similar nature.

In response, on April 27, 2022, the Coast Guard published a notice of proposed rulemaking (NPRM) titled Security Zone, Naval Submarine Base New London, Groton, CT (87 FR 24927). There we stated why we issued the NPRM, and invited comments on our proposed regulatory action related to this limited access area. During the comment period that ended May 27, 2022, we received no comments.

III. Legal Authority and Need for Rule

The Coast Guard is issuing this rule under authority in 46 U.S.C. 70034 (previously 33 U.S.C. 1231). The Captain of the Port Long Island Sound (COTP) has determined that a security zone is necessary to mitigate any moored naval vessels from destruction, loss, or injury from sabotage or other subversive acts, or other causes of a similar nature.

IV. Discussion of Comments, Changes, and the Rule

As noted above, we received no comments on our NPRM published April 27, 2022.

We were informed though by the National Oceanic and Atmospheric Administration (NOAA) Marine Chart Division that the third coordinate on the proposed security zone, 41°22′50.3″ N, 072°05′30.8″ W, does not appear to be consistent with the rest of the security zone. The Coast Guard reviewed NOAA's suggestion with Naval Submarine Base New London and revised the third coordinate to 41°23′26.42″ N, 72°5′30.771″ W. This is the only change to the regulatory text of this rule from the proposed rule in the NPRM.

This rule modifies and expands the existing security zone cited in 33 CFR 165.154(a)(3) Safety and Security Zones: Captain of the Port Long Island Sound Zone, that would allow the zone to completely encompass the security barriers and allow room to expand piers as required.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the size, location, and duration of the security zone. This rule will amend the previous security zone to encompass the entire operational area of the Naval Submarine Base. Vessel traffic will be able to safely transit around or through the security zone with COTP or their designated representative's permission which would impact a small designated area of the Thames River.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received 0 comments from the Small Business Administration on this rulemaking. The Coast Guard certifies under 5 U.S.C. 605(b) that this rule will not have a significant economic impact on a substantial number of small entities.

While some owners or operators of vessels intending to transit the security zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a security zone to limit access near Naval Submarine Base New London, Groton, CT. It is categorically excluded from further review under paragraph L60a of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine Safety, Navigation (water), Reporting and recordkeeping requirements, Security Measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 00170.1, Revision No. 01.2.

2. Revise § 165.154(a)(3) to read as follows:

§ 165.154 Safety and Security Zones; Captain of the Port Long Island Sound Zone Safety and Security Zones.

* * * * *

(a) * * *

(3) Naval Submarine Base New London, Groton, CT. All navigable waters of the Thames River, from surface to bottom, West of Naval Submarine Base New London, Groton, CT, enclosed by a line beginning at a point on the shoreline at 41°23′7.9″ N, 072°05′13.7″ W; then to 41°23′7.9″ N, 072°05′16.9″ W; then to 41°23′26.42″ N, 72°5′30.771″ W; then to 41°23′42.9″ N, 072°05′40.1″ W; then to 41°23′46.7″ N, 072°05′42.3″ W; then to 41°23′53.9″ N, 072°05′44.5″ W; then to 41°24′8.7″ N, 072°05′44.5″ W; then to 41°24′16.2″ N, 072°05′43.4″ W; then to a point on the shoreline 41°24′16.2″ N, 072°05′36.4″ W; then along the shoreline to the point of beginning (NAD 83).

* * * * *

Dated: July 21, 2022.
E.J. Van Camp,
Captain, U.S. Coast Guard, Captain of the Port Long Island Sound.

[FR Doc. 2022-16622 Filed 8-2-22; 8:45 am]

BILLING CODE 9110-04-P